FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 12, 2008.

A. Federal Reserve Bank of Kansas City (Todd Offenbacker, Assistant Vice President) 1 Memorial Drive, Kansas City, Missouri 64198-0001:

1. O. Gene Bicknell, Englewood, Florida, as an individual and as part of the Bicknell Family Group; Martin C. Bicknell, Bucyrus, Kansas, as an individual and as part of the Bicknell Family Group; and Cherona L. Bicknell, Bucyrus, Kansas, as part of the Bicknell Family Group; to retain control of Team Financial, Inc., and thereby indirectly retain control of TeamBank, N.A., both in Paola, Kansas.

2. The Schifferdecker Limited Partnership, Girard, Kansas; Mark W. Schifferdecker, Girard, Kansas, in an individual capacity and as managing general partner; Susan B. Friesen, Omaha, Nebraska, Joy L. Shoop, Hiawatha, Kansas, in an individual capacity and as general partners; and John Schifferdecker, Girard, Kansas, to become part of the family group acting in concert and to acquire shares and thereby control of GN Bankshares, Inc., Girard, Kansas, and thereby control The Girard National Bank, Girard, Kansas. In addition, the Neihart Limited Partnership, Kansas City, Missouri; and David Neihart, Prairie Village, Kansas, and Robert Neihart, Overland Park, Kansas, in an individual capacity and as general partners also have applied to become part of the family group acting in concert to control GN Bankshares, Inc., Girard, Kansas.

Board of Governors of the Federal Reserve System, August 25, 2008.
Robert deV. Frierson,
Deputy Secretary of the Board.

[FR Doc. E8-19979 Filed 8-27-08; 8:45 am]

BILLING CODE 6210-01-S